DEPARTMENT OF THE TREASURY

Internal Revenue Service

26 CFR Part 1

[REG-135866-02]

RIN 1545-BA93

Section 1248 Attribution Principles; Correction

AGENCY: Internal Revenue Service (IRS), Treasury.

ACTION: Notice of proposed rulemaking; correction.

SUMMARY: This document corrects a notice of proposed rulemaking (REG-135866-02) that was published in the Federal Register on Friday, June 2, 2006 (71 FR 31985) providing guidance for determining the earnings and profits attributable to stock of controlled foreign corporations (or former controlled foreign corporations) that are (were) involved in certain nonrecognition transactions.

FOR FURTHER INFORMATION CONTACT: Michael Gilman, (202) 622-3850 (not a toll-free number).

SUPPLEMENTARY INFORMATION:

Background

The notice of proposed rulemaking (REG-135866-02) that is the subject of this correction is under section 1248 of the Internal Revenue Code.

Need for Correction

As published, REG-135866-02 contains errors that may prove to be misleading and are in need of clarification.

Correction of Publication

Accordingly, the publication of the proposed regulations (REG-135866-02) which was the subject of FR. Doc. E6-8551, is corrected as follows:

1. On page 31990, column 1, in the preamble, under the paragraph heading “Explanations of Provisions”, following the second full paragraph of the column, the following language is added:

“F. Effective Date.

These regulations are proposed to apply to income inclusions that occur on or after the date that final regulations are published in the Federal Register.”

2. On page 31990, column 1, in the preamble, under the paragraph heading “Explanations of Provisions”, the language “F. Request for Comments” is corrected to read “G. Request for Comments”.

Guy Traynor,
Chief, Publications and Regulations Branch, Legal Processing Division, Associate Chief Counsel (Procedure and Administration).

[FR Doc. E6-13118 Filed 8-11-06; 8:45 am]

BILLING CODE 4830-01-P